DEPARTMENT OF THE INTERIOR

National Park Service

[NPS-WASO-NAGPRA-NPS0032215; PPWOCRADN0-PCU00RP14.R50000]

Notice of Intent To Repatriate Cultural Items: Federal Bureau of Investigation, Art Theft Program, Washington, DC

AGENCY: National Park Service, Interior.

ACTION: Notice.

SUMMARY: The Federal Bureau of Investigation (FBI), in consultation with the appropriate Indian Tribes or Native Hawaiian organizations, has determined that the cultural items listed in this notice meets the definition of sacred objects. Lineal descendants or representatives of any Indian Tribe or Native Hawaiian organization not identified in this notice that wish to claim these cultural items should submit a written request to the FBI. If no additional claimants come forward, transfer of control of the cultural items to the lineal descendants, Indian Tribes, or Native Hawaiian organizations stated in this notice may proceed.

DATES: Lineal descendants or representatives of any Indian Tribe or Native Hawaiian organization not identified in this notice that wish to claim this cultural item should submit a written request with information in support of the claim to the FBI at the address in this notice by August 5, 2021.

FOR FURTHER INFORMATION CONTACT: Federal Bureau of Investigation, FBI Headquarters, Attn: Supervisory Special Agent Timothy Carpenter, Art Theft Program, 935 Pennsylvania Avenue NW, Washington, DC 20535, telephone (954) 931-3670, email artifacts@ic.fbi.gov.

SUPPLEMENTARY INFORMATION: Notice is here given in accordance with the Native American Graves Protection and Repatriation Act (NAGPRA), 25 U.S.C. 3005, of the intent to repatriate cultural items under the control of the Federal Bureau of Investigation, Washington, DC, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, 12 sacred objects were acquired and transported to Indiana, where they became part of a private collection of Native American antiquities, art, and cultural heritage. In the spring of 2014, these items were seized by the FBI as part of a criminal investigation. The 12 items are identified as catlinite pipes from the Swan Creek archeological site (39WW7), a known ancestral Arikara and Mandan village located on the Missouri River, in Walworth County, South Dakota. Based on information obtained during consultation with an official representative of the Three Affiliated Tribes of the Fort Berthold Reservation, North Dakota, and on archeological information contained in reports for the Swan Creek site, the FBI has determined that the pipes are culturally affiliated with that Indian Tribe.

Determinations Made by the Federal Bureau of Investigation

Officials of the Federal Bureau of Investigation have determined that:

• Pursuant to 25 U.S.C. 3001(3)(C), the 12 cultural items are specific ceremonial objects needed by traditional Native American religious leaders for the practice of traditional Native American religions by their present-day adherents.

• Pursuant to 25 U.S.C. 3001(2), there is a relationship of shared group identity that can be reasonably traced between the sacred objects and the Three Affiliated Tribes of the Fort Berthold Reservation, North Dakota.

Additional Requestors and Disposition

Lineal descendants or representatives of any Indian Tribe or Native Hawaiian organization not identified in this notice that wish to claim these cultural items should submit a written request with information in support of the claim to Federal Bureau of Investigation, FBI Headquarters, Attn: Supervisory Special Agent Timothy Carpenter, Art Theft Program, 935 Pennsylvania Avenue NW, Washington, DC 20535, telephone (954) 931-3670, email artifacts@ic.fbi.gov, by August 5, 2021. After that date, if no additional claimants have come forward, transfer of control of the sacred object to the Three Affiliated Tribes of the Fort Berthold Reservation, North Dakota may proceed.

The Federal Bureau of Investigation is responsible for notifying the Three Affiliated Tribes of the Fort Berthold Reservation, North Dakota that this notice has been published.

Dated: June 28, 2021.
Melanie O'Brien,
Manager, National NAGPRA Program.

[FR Doc. 2021-14308 Filed 7-2-21; 8:45 am]

BILLING CODE 4312-52-P